DEPARTMENT OF ENERGY

Interim Management of Nuclear Materials; Savannah River Site Waste Management

AGENCY: Department of Energy.

ACTION: Amended record of decision.

SUMMARY: In 1995 the Department of Energy (DOE) prepared an environmental impact statement (EIS) for the stabilization, processing, and safe storage of nuclear materials at the Savannah River Site (SRS) entitled Interim Management of Nuclear Materials (IMNM EIS). The IMNM EIS analyzed several alternate methods of stabilizing, processing, or storing various types of nuclear materials. None of those alternatives envisioned disposing of any of the materials directly as waste. Based on the analysis in the IMNM EIS, DOE issued a series of records of decision (RODs) selecting a storage, stabilization, and/or processing strategy for each type of material, and DOE continues to carry out those actions.

In 1995 DOE also prepared an EIS for the treatment, storage and disposal of waste at SRS entitled Savannah River Site Waste Management Environmental Impact Statement (SRS WM EIS). The SRS WM EIS analyzed the management of SRS waste by general category, i.e., hazardous waste, mixed waste (radioactive and hazardous), low level waste (LLW), transuranic waste (TRUW) and high level waste (HLW).

In this amended ROD, DOE is announcing that it has decided to dispose of as waste, pursuant to the SRS WM EIS, the majority of one type and a small portion of a second type of nuclear materials analyzed in the IMNM EIS. The materials will only be disposed of once it has been established that they meet the applicable waste criteria. This action will be taken in lieu of the earlier stabilization and processing decisions made for these materials. Because stabilization and processing activities result in the generation of additional waste, this decision will decrease by about 1,145 cubic meters (1,500 cubic yards) the amount of LLW, and by about 120 cubic meters (160 cubic yards) the amount of TRUW, to be managed at SRS as compared to the amounts that would have been generated under DOE's previous decisions.

FOR FURTHER INFORMATION CONTACT: For further information on the interim management of nuclear materials and radioactive waste management at the SRS, or to receive a copy of the IMNM or SRS WM EIS's, contact: Andrew R. Grainger, NEPA Compliance Officer, U.S. Department of Energy, Savannah River Operations Office, Building 730B, Room 2418, Aiken, South Carolina 29802, (800) 881-7292, Internet: drew.grainger@srs.gov.

For further information on the DOE NEPA process, contact: Carol M. Borgstrom, Director, Office of NEPA Policy and Compliance (EH-42), U.S. Department of Energy, 1000 Independence Avenue, SW., Washington, DC 20585, (202) 586-4600, or leave a message at (800) 472-2756.

SUPPLEMENTARY INFORMATION:

Background

Programmatic Basis for the Revised Decision

DOE's clean-up at the SRS is focused on an accelerated risk-based strategy. Under this strategy, the clean-up will be expedited by disposing of as waste all materials that are suitable for direct disposal, and by processing in the SRS canyon facilities only those materials that require such processing. This strategy will also allow DOE to reduce costs.

NEPA Reviews and Decisions

DOE prepared a final environmental impact statement, Interim Management of Nuclear Materials (IMNM EIS) (DOE/EIS-0220, October 1995), in accordance with the National Environmental Policy Act (NEPA) [42 U.S.C. 4321 et seq.], Council on Environmental Quality regulations implementing NEPA [40 CFR 1500-1508], and DOE implementing procedures [10 CFR 1021]. The IMNM EIS grouped the nuclear materials at the SRS into three categories: Stable (thousands of items in nine material types), Programmatic (three material types), and Candidates for Stabilization (seven material types). Some of the “Programmatic” and all of the “Candidates for Stabilization” materials could have presented environmental, safety, and health vulnerabilities in their then-current storage condition.

On December 12, 1995, DOE issued a ROD and Notice of Preferred Alternatives (60 FR 65300) on the interim management of several types of nuclear materials at the SRS. DOE decided to stabilize the Candidates for Stabilization material type known as “Plutonium and Uranium Stored in Vaults” by: (1) Heating or repackaging the material into better containers, and (2) dissolving some materials in the SRS canyon facilities to chemically remove impurities or radioactive decay products, and converting the resulting purified solutions to a metal, an oxide, or a glass (i.e., vitrification). On February 21, 1996, DOE issued a Supplemental ROD (61 FR 6633) announcing its decision to stabilize the Candidates for Stabilization material type known as “Other Aluminum-Clad Targets” by dissolving them in acid in the SRS canyon facilities and transferring the resulting nuclear material solution to the high-level waste (HLW) tanks for future vitrification in the Defense Waste Processing Facility.

The environmental impacts of disposing of low-level waste (LLW), and managing transuranic waste (TRUW) pending disposal, are analyzed in the Savannah River Site Waste Management Environmental Impact Statement (SRS WM EIS) (DOE/EIS-0217, July 1995).¹ In preparing the SRS WM EIS, DOE recognized the difficulty in trying to comprehensively identify all of the wastes that would require treatment over a 30-year period. Therefore, in providing examples of different waste types, DOE used terms such as “typical” and “includes” to clearly indicate that other materials, such as those identified in this Amended ROD, could also be considered for waste treatment, storage, and disposal as long as those other materials met the definitions of the various waste categories in the SRS WM EIS.

¹ Low-level radioactive waste is radioactive waste that is not high-level radioactive waste, spent nuclear fuel, transuranic waste, byproduct material (as defined in section 11e.(2) of the Atomic Energy Act of 1954, as amended), or naturally occurring radioactive material. Transuranic waste is radioactive waste containing more than 100 nanocuries (3700 becquerels) of alpha-emitting transuranic isotopes per gram of waste, with half-lives greater than 20 years, except for: (1) High-level radioactive waste; (2) Waste that the Secretary of Energy has determined, with the concurrence of the Administrator of the Environmental Protection Agency, does not need the degree of isolation required by the 40 CFR Part 191 disposal regulations; or (3) Waste that the Nuclear Regulatory Commission has approved for disposal on a case-by-case basis in accordance with 10 CFR Part 61. [DOE G 435.1-1, Implementation Guide for Use with DOE's Radioactive Waste Management Manual]

Action alternatives analyzed in the SRS WM EIS included three waste treatment configurations (limited, moderate, and extensive), all of which were found to protect human health and the environment, meet applicable storage and disposal requirements, and use reasonable treatment, storage, and disposal technologies. Each of these treatment configurations was analyzed in the context of multiple waste volume scenarios (expected, minimum, and maximum) which included projections of waste volumes the SRS would need to manage over a 30-year planning period (1995 through 2024). In a September 22, 1995, ROD (60 FR 55249), DOE selected the moderate treatment configuration for its waste management system. On June 28, 2001, DOE issued an Amended ROD (66 FR 34431) announcing its decision to add offsite disposal of certain SRS waste as a management method, consistent with DOE policy.

Other Aluminum-Clad Targets

The Other Aluminum-Clad Targets material type includes 771 cobalt-60 and 1 (one) thulium-170 “slugs” ² as well as approximately 150 slugs and assemblies of other materials (e.g., thorium, uranium, and plutonium).

² A “slug” is generally a short cylinder, approximately 12-18 inches long by three to four inches in diameter, of fuel, target, or barrier material in the form of pellets, pins, or solid metal that is assembled with other slugs in a tube for insertion in a nuclear reactor as a single rod or combined with others to form an assembly.

DOE has determined that cobalt-60 and thulium-170 slugs, and potentially the remaining materials in the Other Aluminum-Clad Targets material type, may be disposed of as LLW without additional processing. One form of the Other Aluminum-Clad Targets, plutonium-242 flux monitor pins, may require disposal as TRUW rather than as LLW. In order to qualify for direct disposal the materials must meet the definition of LLW or TRUW,³ whichever is applicable, and meet the waste acceptance criteria of the receiving, treatment, storage, or disposal facility.

³ DOE Guide 435.1-1, Chapters III and IV, July 9, 1999.

Disposing of the cobalt-60 and thulium-170 slugs, and the qualifying remaining Other Aluminum-Clad Targets material type, as LLW would generate only about five cubic meters of LLW, as compared to approximately 1,150 cubic meters of LLW estimated for the processing stabilization alternative previously selected for this material type.⁴ This is a net reduction of approximately 1,145 cubic meters of LLW generation. These materials are currently stored in the L-Area Disassembly Basin, the Receiving Basin for Offsite Fuels, and the Savannah River Technology Center. The materials in this category that are determined to qualify for direct disposal as LLW will be buried in a shielded container or containers at the SRS or at an offsite facility to ensure that radiation exposure is kept as low as reasonably achievable.

⁴ Table 2-11 of the IMNM EIS indicates that 2,300 cubic meters of LLW could result from the stabilization processing of the entire Other Aluminum-Clad Targets material type. Some of this material type has already been processed. DOE estimates the remaining Other Aluminum-Clad Targets that are the subject of this Amended ROD represent approximately 50 percent of this material type analyzed in the IMNM EIS.

Plutonium and Uranium Stored in Vaults

Similarly, DOE has determined that some of the Plutonium and Uranium Stored in Vaults material type may be disposed of as TRUW without further processing. DOE has already characterized and stabilized about 90 percent of the approximately 3,000 containers of the Plutonium and Uranium Stored in Vaults material type. Characterization and stabilization of the remaining containers is scheduled to be complete by the end of Fiscal Year 2005. During characterization, DOE will determine which of the remaining approximately 300 containers can be directly disposed of as TRUW. Adding TRUW disposal as a management option does not change the characterization process. Disposing of this small portion of Plutonium and Uranium Stored in Vaults as TRUW could result in the generation of about eight cubic meters of TRUW, compared with approximately 130 cubic meters of TRUW estimated for processing this material as described in the IMNM EIS.⁵ If the plutonium-242 flux monitor pins discussed in the preceding section are disposed of as TRUW rather than as LLW, less than two additional cubic meters of TRUW would require management at the SRS, resulting in the generation of less than ten cubic meters of TRUW from this decision. This is a net reduction of approximately 120 cubic meters of TRUW generation below the amount envisioned under previous RODs. In each case, the material to be directly disposed of must meet the TRUW definition and meet the applicable acceptance criteria for packaging, storage and disposal as TRUW. If any material cannot meet the applicable waste acceptance criteria, that material will be stabilized as described in previous RODs.

⁵ Table 2-8 of the IMNM EIS indicates that 1,300 cubic meters of TRUW could result from the stabilization processing of the entire Plutonium and Uranium Stored in Vaults material type. DOE estimates that processing the remaining ten percent of these materials would have a potential of generating only ten percent of this amount.

Potential Environmental Impacts

The IMNM EIS analyzed the potential impacts of a range of alternatives for managing all SRS nuclear materials. Summaries of potential impacts from the alternatives, including the resulting generation of LLW and TRUW, are presented in the IMNM EIS, Table 2-2 through Table 2-12 (pp. 2-48 through 2-58). As described below, the direct disposal of the materials discussed herein as waste could reduce the impacts slightly.

The impacts caused by the disposition of cobalt-60 and thulium-170 slugs, and the remaining materials in the Other Aluminum-Clad Targets material category, as LLW would be within those described in Table 2-15 of the SRS WM EIS, and remain consistent with the moderate treatment alternative selected by DOE in the October 30, 1995, ROD (60 FR 55249). The 1,145 cubic meter reduction forecast from this decision is a very small fraction of both the LLW volume forecast in the SRS WM EIS (approximately 475,000 cubic meters) and the current SRS forecast (approximately 300,000 cubic meters) resulting from program changes, waste minimization, and volume reduction activities. Any material disposed of as LLW must meet the definition of LLW and the disposal facility's waste acceptance criteria.

Some of the Plutonium and Uranium Stored in Vaults materials, and potentially the plutonium-242 flux monitor pins in the Other Aluminum-Clad Targets material type, may be determined to be TRUW. If so, they would represent a small fraction of the TRUW generated and stored at the SRS, and the potential impacts would not exceed those described for TRUW treatment and storage in Table 2-17 of the SRS WM EIS. TRUW would be stored at the SRS pending shipment to DOE's Waste Isolation Pilot Plant near Carlsbad, New Mexico, for disposal. SRS has the capacity to store 34,400 cubic meters of TRUW and has a TRUW inventory of approximately 11,000 cubic meters. The Waste Isolation Pilot Plant Disposal Phase Supplemental EIS (DOE/EIS-0026-FS2) evaluated the transportation and disposal of up to 23,000 cubic meters of waste originating from the SRS. The most recent estimate of SRS-originated TRUW, which includes TRUW to be generated from the Mixed Oxide Fuel Fabrication Facility, is 21,155 cubic meters. Therefore, the estimated 120 cubic meter reduction that could result from implementation of this decision is a small fraction of both the SRS storage capacity and the analyzed WIPP disposal capacity.

Decision

DOE is amending the December 12, 1995, ROD and the February 21, 1996, ROD by canceling, in part, the processing alternative selected for the Plutonium and Uranium Stored in Vaults material type and the Other Aluminum-Clad Targets material type. DOE instead will dispose of, as TRUW, that portion of the remaining Plutonium and Uranium Stored in Vaults, and possibly the plutonium-242 flux monitor pins in the Other Aluminum-Clad Target material type, which meets the criteria set forth below for TRUW. DOE also will dispose of, as LLW, the cobalt-60 and thulium-170 slugs, and any of the remaining Other Aluminum-Clad Target materials that meet the criteria set forth below for LLW. This LLW will be disposed of at the SRS, or at an offsite facility, along with other SRS LLW as discussed in the September 22, 1995, and June 28, 2001, RODs for the SRS WM EIS.

Any material disposed of as LLW or TRUW must meet the definition of the relevant waste type under DOE Guide 435.1-1, which provides guidance for implementation of DOE Order 435.1, Radioactive Waste Management. In addition, disposal of any materials would be contingent upon a demonstration that they meet the appropriate treatment, storage, or disposal facility waste acceptance criteria. The environmental impacts of treatment, storage, and disposal of LLW and TRUW at the SRS are analyzed in the SRS WM EIS (DOE/EIS-0217, July 1995).

Adding disposal as LLW or TRUW to the management methods available for Other Aluminum-Clad Targets and Plutonium and Uranium Stored in Vaults will allow DOE to optimize the use of the SRS canyon facilities to process higher priority materials. Additionally, implementing this additional management method for qualifying plutonium materials will reduce the amount of plutonium that would otherwise need to be processed to meet the plutonium storage standard (DOE-STD-3013), reduce vault storage space requirements for plutonium and the associated storage containers, and lower vault surveillance and maintenance costs. There is no programmatic need for the materials covered by this decision.

Issued in Washington, DC, July 17, 2003.
Jessie Hill Roberson,
Assistant Secretary for Environmental Management.

[FR Doc. 03-19094 Filed 7-25-03; 8:45 am]

BILLING CODE 6450-01-P